OFFICE OF PERSONNEL MANAGEMENT

Submission for Review: Renewal of an Approved Information Collection, Standard Form (SF) 15, Application for 10-Point Veteran Preference, OMB Control No. 3206-0001

AGENCY: Office of Personnel Management.

ACTION: 60-Day notice and request for comments.

SUMMARY: The Office of Personnel Management (OPM) offers the general public and other Federal agencies the opportunity to comment on a renewal of an information collection request (ICR) 3206-0001, Standard Form (SF) 15, Application for 10-Point Veteran Preference.

DATES: Comments are encouraged and will be accepted until June 13, 2022.

ADDRESSES: Interested persons are invited to submit written comments on the proposed information collection by one of the following means:

• Federal Rulemaking Portal: http://www.regulations.gov.

All submissions received must include the agency name and docket number for this Federal Register document. The general policy for comments and other submissions from members of the public is to make these submissions available for public viewing on the internet at http://www.regulations.gov as they are received without change, including any personal identifiers or contact information.

• Email: Employ@opm.gov. Please put “Standard Form 15” in the subject line of the email.

FOR FURTHER INFORMATION CONTACT: A copy of this information collection request, with applicable supporting documentation, may be obtained by contacting Employee Services; Talent Acquisition, Classification, and Veterans Programs; Office of Personnel Management; 1900 E Street NW, Washington, DC 20415, Attention: Roseanna Ciarlante, 202-606-7400, or via electronic mail to Employ@opm.gov.

SUPPLEMENTARY INFORMATION: As required by the Paperwork Reduction Act of 1995, (Pub. L. 104-13, 44 U.S.C. chapter 35) as amended by the Clinger-Cohen Act (Pub. L. 104-106), OPM is soliciting comments for this collection. The SF 15, Application for 10-Point Veteran Preference, is used by veterans as both a request for preference and a guide to determine the appropriate documentation to submit to support their claims of 10-point veterans' preference when applying for Federal employment. The SF 15, and the accompanying documentation, is used by agencies, OPM examining offices, and agency appointing officials to adjudicate individuals' claims for veterans' preference in accordance with the Veterans' Preference Act of 1944. This notice proposes to renew a currently approved collection. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: Standard Form (SF) 15, Application for 10-Point Veteran Preference.

OMB Number: 3206-0001.

Frequency: Annually.

Affected Public: Veterans and spouses and parents of deceased and disabled veterans.

Number of Respondents: 37,000.

Estimated Time per Respondent: 15 Minutes.

Total Burden Hours: 9,250.

Office of Personnel Management.
Kellie Cosgrove Riley,
Director, Office of Privacy and Information Management.

[FR Doc. 2022-07803 Filed 4-11-22; 8:45 am]

BILLING CODE 6325-39-P